CORPORATION FOR NATIONAL AND COMMUNITY SERVICE

AmeriCorps Online Payment System Launched

AGENCY: Corporation for National and Community Service.

ACTION: Notice.

SUMMARY: The Corporation for National and Community Service is announcing a new online payment system that will allow Segal AmeriCorps Education Award payment requests and other benefits-related requests from AmeriCorps members to be submitted and processed online. The new system eliminates the need to submit and process paper forms, while increasing the accuracy of the data and the speed with which payments are made. The new system became available for institutions registration on August 16, 2006.

FOR FURTHER INFORMATION CONTACT: Jerry Yetter, National Service Trust, Corporation for National and Community Service, 1225 New York Ave., Washington, DC 20004, tel: 202-606-7547. Additional information can also be found on the AmeriCorps Web site, www.AmeriCorps.gov.

SUPPLEMENTARY INFORMATION: The National Service Trust (Trust), an office of the Corporation for National and Community Service, administers Segal AmeriCorps Education Awards on behalf of AmeriCorps members. These awards include the payment of interest accrued on student loans during members' terms of service and the payment of educational expenses or outstanding qualified student loan balances. The Trust is embarking on a landmark project to improve the way it does business with its members and partner institutions by automating these processes.

Beginning August 2006, AmeriCorps members and partner institutions will have access to the new online payment system where they will be able to submit and process Segal AmeriCorps Education Award payments and other requests completely online. AmeriCorps members will be able to register for the system as soon as they have been enrolled in their AmeriCorps program. Online registration by institutions became available on August 16th, and we encourage both financial and education institutions to sign up as soon as possible to be able to receive and process payment requests online. Registration for members will begin a week after we open registration for institutions. At that point, AmeriCorps members will also be able to submit requests and begin to experience the benefits of the system. Registering for the system will be a simple and secure process, and once online, members and institutions will immediately be able to reap the benefits of the automated online payment process. Here are just a few of the highlights:

• Quicker turn-around of payments

Institutions will receive payments much sooner than with the old paper-based process, reducing the turnaround time from 30 days to seven or less depending on when in a payment cycle a request is processed.

• Reduces administrative burden

Certain information will be auto-populated and verified by the system, thereby reducing the administrative burden of completing requests and rejections due to faulty or missing information. Additionally, electronic forms remove the problem of paper forms that are illegible or damaged due to irradiation.

• Eliminates need to scan and copy documents

The AmeriCorps online system creates an electronic record of the former paper form, eliminating the need to scan and copy documents for storage.

• Reduces mailing costs

The new system will eliminate the time and cost of mailing documents and paper forms.

• View up to date account information

Account information and available balances will be updated in real time and can be viewed from your homepage. Users can also track the status of pending requests and payments online.

• Designed to be user friendly

The new system is simple and easy to use. No training is necessary.

• Provides accessible help and information features

Definitions of terminology and help text explaining procedures are readily available from multiple areas on the site.

The Corporation for National and Community Service expects the online payment system to provide much faster, more accurate, and cost-effective service to our partner institutions and AmeriCorps members and alumni. Please visit www.AmeriCorps.gov for the latest updates as this new system is implemented.

Dated: August 23, 2006.
Jerry Yetter,
Director, National Service Trust.

[FR Doc. E6-14470 Filed 8-29-06; 8:45 am]

BILLING CODE 6050-$$-P